INTERNATIONAL TRADE COMMISSION

[Investigation No. TA-131-040]

WTO Environmental Goods Trade Negotiations: Advice on the Probable Economic Effect of Providing Duty-Free Treatment, Second List of Articles

AGENCY: United States International Trade Commission.

ACTION: Institution of investigation, scheduling of public hearing, and opportunity to provide written submissions.

SUMMARY: Following receipt of a request dated August 20, 2015 (received August 21, 2015) from the United States Trade Representative (USTR) under section 131 of the Trade Act of 1974 (19 U.S.C. 2151), the U.S. International Trade Commission (Commission) instituted investigation No. TA-131-040, WTO Environmental Goods Trade Negotiations: Advice on the Probable Economic Effect of Providing Duty-Free Treatment, Second List of Articles.

DATES:

October 5, 2015: Deadline for filing requests to appear at the public hearing.

October 6, 2015: Deadline for filing pre-hearing briefs and statements.

October 14, 2015: Public hearing.

October 19, 2015: Deadline for filing post-hearing briefs and statements.

October 19, 2015: Deadline for filing all other written submissions.

December 4, 2015: Transmittal to USTR of Commission's report.

ADDRESSES: All Commission offices, including the Commission's hearing rooms, are located in the United States International Trade Commission Building, 500 E Street SW., Washington, DC. All written submissions should be addressed to the Secretary, United States International Trade Commission, 500 E Street SW., Washington, DC 20436. The public record for this investigation may be viewed on the Commission's electronic docket (EDIS) at http://www.usitc.gov/secretary/edis.htm.

FOR FURTHER INFORMATION CONTACT: Project Leader Mahnaz Khan (202-205-2046 or mahnaz.khan@usitc.gov), or Deputy Project Leader Karl Tsuji (202-708-3434 or karl.tsuji@usitc.gov) for information specific to this investigation. For information on the legal aspects of this investigation, contact William Gearhart of the Commission's Office of the General Counsel (202-205-3091 or william.gearhart@usitc.gov). The media should contact Margaret O'Laughlin, Office of External Relations (202-205-1819 or margaret.olaughlin@usitc.gov). Hearing-impaired individuals may obtain information on this matter by contacting the Commission's TDD terminal at 202-205-1810. General information concerning the Commission may also be obtained by accessing its Internet server (http://www.usitc.gov). Persons with mobility impairments who will need special assistance in gaining access to the Commission should contact the Office of the Secretary at 202-205-2000.

Background: In his letter, the USTR noted that he had notified Congress on March 21, 2014, of the President's intent to enter into negotiations with a group of World Trade Organization (WTO) Members to eliminate tariffs on environmental goods, and that on July 8, 2014, the United States and thirteen other WTO members launched negotiations on the Environmental Goods Agreement (EGA). The USTR also noted that, in preparation for the EGA negotiations, he had requested, and the Commission provided, two reports in 2014 with advice and information on U.S. environmental goods trade. He also noted that the product coverage submitted for preparation of those reports was provisional, given the absence of a universally accepted definition of an “environmental good.” He said that during the course of the EGA negotiations and USTR's preparatory consultations, a range of additional potential products have been identified.

As requested by the USTR, the Commission will, pursuant to section 131 of the Trade Act of 1974, provide a report containing its advice as to the probable economic effect of providing duty-free treatment for imports of these additional potential products (as identified in the list attached to the USTR's letter) from all U.S. trading partners on (i) industries in the United States producing like or directly competitive products, and (ii) consumers. As requested, the report will provide analysis for each of the additional potential products for which U.S. tariffs remain, taking into account implementation of U.S. commitments in the WTO. The Commission's advice will be based on the U.S. tariff nomenclature in effect during 2015 and trade data for 2014. As requested, the Commission will provide its report to the USTR by December 4, 2015.

The USTR stated that portions of the Commission's report will be classified as national security information and that the USTR considers the report to be an inter-agency memorandum that will contain pre-decisional advice and be subject to the deliberative process privilege.

Public Hearing: A public hearing in connection with this investigation will be held at the U.S. International Trade Commission Building, 500 E Street SW., Washington, DC, beginning at 9:40 a.m. on October 14, 2015. Requests to appear at the public hearing should be filed with the Secretary, no later than 5:15 p.m., October 5, 2015, in accordance with the requirements in the “Submissions” section below. All pre-hearing briefs and statements should be filed not later than 5:15 p.m., October 6, 2015; and all post-hearing briefs and statements should be filed not later than 5:15 p.m., October 19, 2015.

Written Submissions: In lieu of or in addition to participating in the hearing, interested parties are invited to file written submissions concerning this investigation. All written submissions should be addressed to the Secretary, and should be received not later than 5:15 p.m., October 19, 2015. All written submissions must conform with the provisions of section 201.8 of the Commission's Rules of Practice and Procedure (19 CFR 201.8). Section 201.8 and the Commission's Handbook on Filing Procedures require that interested parties file documents electronically on or before the filing deadline and submit eight (8) true paper copies by 12:00 p.m. eastern time on the next business day. In the event that confidential treatment of a document is requested, interested parties must file, at the same time as the eight paper copies, at least four (4) additional true paper copies in which the confidential information must be deleted (see the following paragraph for further information regarding confidential business information). Persons with questions regarding electronic filing should contact the Office of the Secretary (202-205-2000).

Any submissions that contain confidential business information (CBI) must also conform with the requirements of section 201.6 of the Commission's Rules of Practice and Procedure (19 CFR 201.6). Section 201.6 of the rules requires that the cover of the document and the individual pages be clearly marked as to whether they are the “confidential” or “non-confidential” version, and that the confidential business information be clearly identified by means of brackets. All written submissions, except for confidential business information, will be made available for inspection by interested parties.

The Commission may include some or all of the confidential business information submitted in the course of this investigation in the report it sends to the USTR. The Commission will not otherwise publish any confidential business information in a manner that would reveal the operations of the firm supplying the information.

Summaries of Written Submissions: The Commission intends to publish summaries of the positions of interested persons in an appendix to its report. Persons wishing to have a summary of their position included in the appendix should include a summary with their written submission. The summary may not exceed 500 words, should be in MSWord format or a format that can be easily converted to MSWord, and should not include any confidential business information. The summary will be published as provided if it meets these requirements and is germane to the subject matter of the investigation. In the appendix the Commission will identify the name of the organization furnishing the summary, and will include a link to the Commission's Electronic Document Information System (EDIS) where the full written submission can be found.

Issued: August 28, 2015.
By order of the Commission.
Lisa R. Barton,
Secretary to the Commission.

[FR Doc. 2015-21879 Filed 9-2-15; 8:45 am]

BILLING CODE 7020-02-P